OFFICE OF PERSONNEL MANAGEMENT

Excepted Service

AGENCY: U.S. Office of Personnel Management (OPM).

ACTION: Notice.

SUMMARY: This notice identifies Schedule A, B, and C appointing authorities applicable to a single agency that were established or revoked from July 1, 2017 to July 31, 2017.

FOR FURTHER INFORMATION CONTACT: Senior Executive Resources Services, Senior Executive Service and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the U.S. Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during July 2017.

Schedule B

No schedule B authorities to report during July 2017.

Schedule C

The following Schedule C appointing authorities were approved during July 2017.

Agency name | Organization name | Position title | Authorization No. | Effective date
Department of Agriculture | Office of Communications | Press Secretary | DA170169 | 07/21/2017
| Office of the Under Secretary for Research, Education, and Economics | Chief of Staff | DA170170 | 07/31/2017
Broadcasting Board of Governors | Broadcasting Board of Governors | Senior Advisor | IB170005 | 07/11/2017
Department of Commerce | Office of the Chief of Staff | Scheduler | DC170146 | 07/05/2017
Commodity Futures Trading Commission | Office of the Chief Economist | Chief Economist | CT170011 | 07/07/2017
Department of Defense | Washington Headquarters Services | Staff Assistant Defense Fellow | DD170185 DD170194 | 07/05/2017 07/14/2017
| Office of the Assistant Secretary of Defense (Asian and Pacific Security Affairs) | Special Assistant (Afghanistan, Pakistan, and Central Asia) | DD170189 | 07/05/2017
| Office of the Secretary of Defense | Special Assistant | DD170168 | 07/06/2017
| Office of the Assistant Secretary of Defense (Special Operations/Low Intensity Conflict) | Special Assistant (Stability and Humanitarian Affairs) | DD170191 | 07/07/2017
| Office of the Under Secretary of Defense (Policy) | Special Assistant Special Assistant (East Asia) | DD170201 DD170202 | 07/21/2017 07/21/2017
| Office of the Assistant Secretary of Defense (Homeland Defense and Global Security ) | Special Assistant (Cyber) | DD170198 | 07/31/2017
Department of the Army | Office Deputy Under Secretary of Army | Personal and Confidential Assistant | DW170025 | 07/06/2017
Department of Education | Office of Communications and Outreach | Special Assistant | DB170118 | 07/05/2017
| Office of the Secretary | Confidential Assistant Special Assistant | DB170120 DB170125 | 07/07/2017 07/18/2017
| Office of Legislation and Congressional Affairs | Confidential Assistant | DB170126 | 07/21/2017
| Office of Career Technical and Adult Education | Special Assistant | DB170127 | 07/21/2017
Department of Energy | Office of Public Affairs | Deputy Press Secretary | DE170184 | 07/18/2017
| Office of the Deputy Secretary | Special Advisor | DE170179 | 07/21/2017
| Office of Scheduling and Advance | Scheduler Special Assistant | DE170185 DE170198 | 07/21/2017 07/26/2017
| Office of Technology Transition | Chief of Staff | DE170183 | 07/31/2017
| Office of Advanced Research Projects Agency—Energy | Senior Advisor and Chief of Staff | DE170187 | 07/31/2017
Environmental Protection Agency | Office of the Administrator | Senior Advisor for Water and Cross-Cutting Initiatives | EP170073 | 07/05/2017
|  | Director of Scheduling and Advance | EP170074 | 07/05/2017
|  | Special Assistant for Scheduling and Advance | EP170075 | 07/13/2017
|  | Special Assistant | EP170076 | 07/13/2017
| Office of the Associate Administrator for Congressional and Intergovernmental Relations | Special Assistant for Congressional Relations Special Assistant | EP170063 EP170078 | 07/06/2017 07/13/2017
Export-Import Bank | Office of the Chairman | Financial Advisor Senior Advisor Advisor | EB170015 EB170019 EB170005 | 07/21/2017 07/21/2017 07/25/2017
General Services Administration | Office of Congressional and Intergovernmental Affairs | Communications Advisor | GS170044 | 07/31/2017
Department of Health and Human Services | Office of the Secretary | Policy Advisor for Public Health and Science | DH170288 | 07/05/2017
| Office of the Assistant Secretary for Health | Director of Communications | DH170282 | 07/07/2017
| Office of Communications, Administration for Children and Families | Senior Director, Communications and Media | DH170289 | 07/07/2017
| Office of Indian Health Service | Senior Advisor, Indian Health Service | DH170299 | 07/20/2017
| Office of the General Counsel | Advisor and Legal Counsel | DH170300 | 07/28/2017
| Office of the Administrator | Senior Advisor (Substance Abuse) | DH170301 | 07/28/2017
| Office of the Assistant Secretary for Financial Resources | Senior Advisor | DH170298 | 07/31/2017
Department of Homeland Security | Office of the Secretary | Executive Director, Homeland Security Advisory Council and Campaigns | DM170247 | 07/27/2017
| Office of the Executive Secretariat | Briefing Book Coordinator | DM170249 | 07/27/2017
| Office of Assistant Secretary for Legislative Affairs | Confidential Assistant | DM170236 | 07/31/2017
| Office of the Assistant Secretary for Intergovernmental Affairs | Confidential Assistant | DM170239 DM170240 | 07/31/2017 07/31/2017
Department of Housing and Urban Development | Office of Housing | Senior Advisor (3) | DU170148 DU170152 DU170132 | 07/05/2017 07/28/2017 07/11/2017
| Office of the Secretary | Special Policy Advisor Senior Advisor | DU170153 DU170150 | 07/19/2017 07/27/2017
Department of the Interior | Secretary's Immediate Office | Advisor Press Secretary Deputy Director of Communications | DI170087 DI170092 DI170086 | 07/06/2017 07/06/2017 07/14/2017
| Bureau of Land Management | Counselor | DI170097 | 07/06/2017
| Office of Assistant Secretary—Land and Minerals Management | Senior Advisor Advisor (2) | DI170100 DI170105 DI170106 | 07/21/2017 07/31/2017 07/31/2017
Department of Justice | Office of the Associate Attorney General | Counsel | DJ170129 | 07/06/2017
| Office of Civil Rights Division | Counsel (3) | DJ170130 DJ170128 DJ170153 | 07/07/2017 07/17/2017 07/21/2017
| Office of Antitrust Division | Counsel | DJ170152 | 07/31/2017
Department of Labor | Office of the Secretary | Staff Assistant Special Assistant | DL170070 DL170075 | 07/13/2017 07/21/2017
| Office of the Assistant Secretary for Policy | Special Assistant | DL170073 | 07/21/2017
National Endowment for the Humanities | Office of the Chairman | White House Liaison and Chairman's Strategic Scheduler | NH170004 | 07/07/2017
Office of Management and Budget | Office of the Director | Advisor | BO170081 | 07/10/2017
Office of Information and Regulatory Affairs | Confidential Assistant | BO170083 | 07/21/2017
Office of the United States Trade Representative | Office of Intergovernmental Affairs and Public Liaison | Deputy Assistant United States Trade Representative for Intergovernmental Affairs and Public Engagement | TN170016 | 07/10/2017
| Office of Congressional Affairs | Senior Director for Congressional Affairs | TN170017 | 07/31/2017
Presidents Commission on White House Fellowships | President's Commission on White House Fellowships | Associate Director | WH170010 | 07/07/2017
Department of State | Office of the United States. Global Aids Coordinator | Chief of Staff & Chief Policy Officer | DS170182 | 07/07/2017
| Office of the Under Secretary for Management | Advisor Special Advisor | DS170181 DS170186 | 07/14/2017 07/21/2017
| Office of Policy Planning | Special Advisor | DS170183 | 07/14/2017
| Bureau of European and Eurasian Affairs | Special Assistant | DS170149 | 07/31/2017
Department of Transportation | Office of the Administrator | Director of Governmental Affairs | DT170120 | 07/07/2017
|  | Special Assistant | DT170126 | 07/31/2017
Department of the Treasury | Office of the Assistant Secretary (Public Affairs) | Senior Advisor | DY170141 | 07/14/2017
| Office of the Secretary | Advance Representative | DY170142 | 07/14/2017
United States International Trade Commission | Office of Commissioner Broadbent | Confidential Assistant | TC170001 | 07/21/2017
Department of Veterans Affairs | Office of the Assistant Secretary for Congressional and Legislative Affairs | Special Assistant | DV170063 | 07/07/2017

The following Schedule C appointing authorities were revoked during July 2017.

Agency name | Organization name | Title | Request No. | Date vacated
Commodity Futures Trading Commission | Office of the Chief Economist | Chief Economist | CT140001 | 07/22/2017
Consumer Product Safety Commission | Office of Commissioners | Special Assistant | PS140009 | 07/08/2017
Department of Education | Office of the Secretary | Special Assistant | DB170095 | 07/22/2017
Department of Energy | Office of the Assistant Secretary for Nuclear Energy | Senior Advisor and Chief of Staff | DE170095 | 07/22/2017
Department of Health and Human Services | Office of the Secretary | Advisor | DH170239 | 07/30/2017
Environmental Protection Agency | Office of the Administrator | Director of Scheduling and Advance | EP170055 | 07/15/2017
| Office of the Associate Administrator for Policy | Senior Deputy Associate Administrator for Policy | EP170050 | 07/15/2017
General Services Administration | Office of Public Building Service | Senior Advisor to the Public Buildings Services Commissioner | GS170029 | 07/07/2017
National Endowment for the Arts | Office of the Chairman | Press Secretary | NA160002 | 07/05/2017
National Endowment for the Humanities | Office of Congressional Affairs | Director of Congressional Affairs | NH150002 | 07/31/2017

Authority: 5 U.S.C. 3301 and 3302; E.O. 10577, 3 CFR, 1954-1958 Comp., p. 218.

U.S. Office of Personnel Management.
Kathleen M. McGettigan,
Acting Director.

[FR Doc. 2017-25031 Filed 11-17-17; 8:45 am]

BILLING CODE 6325-39-P